DEPARTMENT OF DEFENSE

Department of the Army

[Docket ID USA-2010-0005]

Privacy Act of 1974; System of Records

AGENCY: Department of the Army, DoD.

ACTION: Notice to alter a system of records.

SUMMARY: Department of the Army proposes to alter a system of records notices in its existing inventory of record systems subject to the Privacy Act of 1974, (5 U.S.C. 552a), as amended.

DATES: This proposed action will be effective without further notice on May 24, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones at (703) 428-6185.

SUPPLEMENTARY INFORMATION: Department of the Army notices for systems of records subject to the Privacy Act of 1974 (5 U.S.C. 552a), as amended, have been published in the Federal Register and are available from the Department of the Army, Privacy Office, U.S. Army Records Management and Declassification Agency, 7701 Telegraph Road, Casey Building, Suite 144, Alexandria, VA 22325-3905.

The proposed system report, as required by 5 U.S.C. 552a(r) of the Privacy Act of 1974, as amended, was submitted on April 9, 2010 to the House Committee on Government Reform, the Senate Committee on Homeland Security and Governmental Affairs, and the Office of Management and Budget (OMB) pursuant to paragraph 4c of Appendix I to OMB Circular No. A-130, “Federal Agency Responsibilities for Maintaining Records About Individuals” (February 20, 1996; 61 FR 6427).

Dated: April 19, 2010.
Mitchell S. Bryman,
Alternate OSD Federal Register Liaison Officer, Department of Defense.

A0027-50 DAJA

SYSTEM NAME:

Foreign Jurisdiction Case Files (July 14, 2008; 73 FR 40309).

CHANGES:

* * * * *

SYSTEM LOCATION:

Delete entry and replace with “Office of the Judge Advocate General, Headquarters, Department of the Army, International and Operational Law Division, Washington, DC 20310-2210. (Copy of record will exist for shorter periods in Office of the Staff Judge Advocate at the command where the case originated.)

Office of the Judge Advocate General, Headquarters, Department of the Air Force, AF/JAO, 1420 Air Force Pentagon, Washington, DC 20330-1420.”

CATEGORIES OF INDIVIDUALS COVERED BY THE SYSTEM:

Delete entry and replace with “Members of the U.S. Army and Air Force, U.S. Army and Air Force civilians employed by, serving with, or accompanying the U.S. Army and Air Force abroad and Army and Air Force dependents of such individuals who have been subject to the exercise of civil or criminal jurisdiction by foreign courts or foreign administrative agencies and/or sentenced to unsuspended confinement.”

CATEGORIES OF RECORDS IN THE SYSTEM:

Delete entry and replace with “Full name, Social Security Number (SSN); individual case reports concerning the exercise of jurisdiction by foreign tribunals, trial observer reports, requests for provision of counsel, records of trials, requests for local authorities to refrain from exercising their jurisdiction, communications with lawyers, officials within the Department of the Army, Department of the Air Force and Department of Defense, diplomatic mission information, and other related documents.”

AUTHORITY FOR MAINTENANCE OF THE SYSTEM:

Delete entry and replace with “10 U.S.C. 3013, Department of the Army; Department of Defense Directive 5525.1, Status of Forces Policy and Information; Army Regulation 27-50, Status of Forces Policies, Procedures, and Information; Air Force Joint Instruction 51-706, Status of Forces Policies, Procedures and Information; and E.O. 9397 (SSN), as amended.”

* * * * *

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act of 1974, these records or information contained therein may specifically be disclosed outside the DoD as a routine use pursuant to 5 U.S.C. 552a(b)(3) as follows:

The DoD `Blanket Routine Uses' set forth at the beginning of the Army's compilation of systems of records notices also apply to this system.”

* * * * *

SYSTEM MANAGER(S) AND ADDRESS:

Delete entry and replace with “The Judge Advocate General, Headquarters, Department of the Army, Washington, DC 20310-2210.

The Judge Advocate General, Headquarters, Department of the Air Force, 1420 Air Force Pentagon, AF/JAO, Washington, DC 20330-1420.”

NOTIFICATION PROCEDURE:

Delete entry and replace with “Individuals seeking to determine whether information about themselves is contained in this system of records should address written inquiries to:

For Army: The Judge Advocate General, Headquarters, Department of the Army, Washington, DC 20310-2210 or the Staff Judge Advocate of the installation or Command where legal assistance was sought. Official mailing addresses can be obtained by writing the system manager.

For Air Force: The Judge Advocate General, Headquarters, Department of the Air Force, 1420 Air Force Pentagon, AF/JAO, Washington, DC 20330-1420.

Individual should provide full name, Social Security Number (SSN) or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

RECORD ACCESS PROCEDURES:

Delete entry and replace with “Individuals seeking access to information about themselves contained in this system of records should address written inquiries to:

For Army: The Judge Advocate General, Headquarters, Department of the Army, Washington, DC 20310-2210 or the Staff Judge Advocate of the installation or Command where legal assistance was sought. Official mailing addresses can be obtained by writing the system manager.

For Air Force: The Judge Advocate General, Headquarters, Department of the Air Force, 1420 Air Force Pentagon, AF/JAO, Washington, DC 20330-1420.

Individual should provide full name, Social Security Number (SSN) or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

CONTESTING RECORD PROCEDURES:

Delete entry and replace with “The Army's rules for accessing records, and for contesting contents and appealing initial agency determinations are contained in Army Regulation 340-21; 32 CFR part 505; or may be obtained from the system manager.

The Air Force's rules for accessing records and for contesting contents and appealing initial agency determinations are contained in Air Force Instruction 33-332, Air Force Privacy Act Program, or may be obtained from the system manager.”

A0027-50 DAJA

SYSTEM NAME:

Foreign Jurisdiction Case Files.

SYSTEM LOCATION:

Office of the Judge Advocate General, Headquarters, Department of the Army, International and Operational Law Division, Washington, DC 20310-2210. (Copy of record will exist for shorter periods in Office of the Staff Judge Advocate at the command where case originated.)

Office of the Judge Advocate General, Headquarters, Department of the Air Force, AF/JAO, 1420 Air Force Pentagon, Washington, DC 20330-1420.

CATEGORIES OF INDIVIDUALS COVERED BY THE SYSTEM:

Members of the U.S. Army and Air Force, U.S. Army and Air Force civilians employed by, serving with, or accompanying the U.S. Army and Air Force abroad and Army and Air Force dependents of such individuals who have been subject to the exercise of civil or criminal jurisdiction by foreign courts or foreign administrative agencies and/or sentenced to unsuspended confinement.

CATEGORIES OF RECORDS IN THE SYSTEM:

Full name, Social Security Number (SSN); individual case reports concerning the exercise of jurisdiction by foreign tribunals, trial observer reports, requests for provision of counsel, records of trials, requests for local authorities to refrain from exercising their jurisdiction, communications with lawyers, officials within the Department of the Army, Department of the Air Force and Department of Defense, diplomatic mission information, and other related documents.

AUTHORITY FOR MAINTENANCE OF THE SYSTEM:

10 U.S.C. 3013; Department of the Army; Department of Defense Directive 5525.1, Status of Forces Policy and Information; Army Regulation 27-50, Status of Forces Policies, Procedures, and Information; Air Force Joint Instruction 51-706, Status of Forces Policies, Procedures and Information; and E.O. 9397 (SSN), as amended.

PURPOSE(S):

To monitor development and status of each individual case to ensure that all rights and protection to which U.S. personnel abroad and their dependents are entitled under pertinent international agreements are afforded such personnel; to obtain information to answer queries regarding the status and disposition of individual cases involving the exercise of civil or criminal jurisdiction by foreign courts or foreign administrative agencies; to render management and statistical reports.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

The `Blanket Routine Uses' set forth at the beginning of the Army's compilation of systems of records notices also apply to this system.

POLICIES AND PRACTICES FOR STORING, RETRIEVING, ACCESSING, RETAINING, AND DISPOSING OF RECORDS IN THE SYSTEM:

STORAGE:

Paper records and electronic storage media.

RETRIEVABILITY:

By individual's surname.

SAFEGUARDS:

Records are maintained in a secure controlled area and are accessible only to authorized personnel. Physical and electronic access is restricted to designated individuals having a need-to-know in the performance of official duties. Buildings are equipped with alarms, cameras, and monitored continuously.

RETENTION AND DISPOSAL:

Permanent. Keep in current files area until no longer needed for conducting business, then retire to Records Holding Area/Army Electronic Archives (RHA/AEA). The RHA/AEA will transfer to the National Archives when the record is 20 years old.

SYSTEM MANAGER(S) AND ADDRESS:

The Judge Advocate General, Headquarters, Department of the Army, Washington, DC 20310-2210.

The Judge Advocate General, Headquarters, Department of the Air Force, 1420 Air Force Pentagon, AF/JAO, Washington, DC 20330-1420.

NOTIFICATION PROCEDURE:

Individuals seeking to determine whether information about themselves is contained in this system of records should address written inquiries to:

For Army: The Judge Advocate General, Headquarters, Department of the Army, Washington, DC 20310-2210 or the Staff Judge Advocate of the installation or Command where legal assistance was sought. Official mailing addresses can be obtained by writing the system manager.

For Air Force: The Judge Advocate General, Headquarters, Department of the Air Force, 1420 Air Force Pentagon, AF/JAO, Washington, DC 20330-1420.

Individual should provide full name, Social Security Number (SSN) or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

RECORD ACCESS PROCEDURES:

Individuals seeking access to information about themselves contained in this system of records should address written inquiries to:

For Army: The Judge Advocate General, Headquarters, Department of the Army, Washington, DC 20310-2210 or the Staff Judge Advocate of the installation or Command where legal assistance was sought. Official mailing addresses can be obtained by writing the system manager.

For Air Force: The Judge Advocate General, Headquarters, Department of the Air Force, 1420 Air Force Pentagon, AF/JAO, Washington, DC 20330-1420.

Individual should provide full name, Social Security Number (SSN) or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

CONTESTING RECORD PROCEDURES:

The Army's rules for accessing records and for contesting contents and appealing initial agency determinations are contained in Army Regulation 340-21; 32 CFR part 505; or may be obtained from the system manager.

The Air Force's rules for accessing records and for contesting contents and appealing initial agency determinations are contained in Air Force Instruction 33-332, Air Force Privacy Act Program, or may be obtained from the system manager.

RECORD SOURCE CATEGORIES:

From the individual, his/her attorney, foreign government agencies, Department of State, law enforcement jurisdictions, relevant Army records and reports.

EXEMPTIONS CLAIMED FOR THE SYSTEM:

None.

[FR Doc. 2010-9389 Filed 4-22-10; 8:45 am]

BILLING CODE 5001-06-P